DEPARTMENT OF HEALTH AND HUMAN SERVICES

National Institutes of Health

National Institute of General Medical Sciences; Amended Notice of Meeting

Notice is hereby given of a change in the meeting of the National Advisory General Medical Sciences Council, May 21, 2020, 08:30 a.m. to May 21, 2020, 05:00 p.m., National Institutes of Health, Natcher Building, 45 Center Drive, Bethesda, MD 20892 which was published in the Federal Register on February 24, 2020, 85 FR 10454.

This notice is being amended to change the meeting time and location from 8:30 a.m. to 5:00 p.m., National Institutes of Health, Natcher Building, 45 Center Drive, Bethesda, MD 20892 to 9:30 a.m. to 4:30 p.m., a virtual meeting. The URL link to this meeting is: https://www.nigms.nih.gov/about-nigms/what-we-do/advisory-council. Any member of the public may submit written comments no later than 15 days after the meeting. The meeting is partially Closed to the public.

Dated: April 15, 2020.
Miguelina Perez,
Program Analyst,Office of Federal Advisory Committee Policy.

[FR Doc. 2020-08286 Filed 4-17-20; 8:45 am]

BILLING CODE 4140-01-P